DEPARTMENT OF COMMERCE

International Trade Administration

[A-570-891]

Hand Trucks and Certain Parts Thereof from the People's Republic of China; Extension of Time Limit for Preliminary Results of Antidumping Duty Administrative Review

AGENCY: Import Administration, International Trade Administration, Department of Commerce.

EFFECTIVE DATE: August 24, 2010.

FOR FURTHER INFORMATION CONTACT: Scott Hoefke or Fred Baker, AD/CVD Operations, Office 7, Import Administration, International Trade Administration, U.S. Department of Commerce, 14th Street and Constitution Avenue NW, Washington, DC 20230; telephone: (202) 482-4947 or (202) 482-2924, respectively.

SUPPLEMENTARY INFORMATION:

Background

On January 29, 2010, the Department of Commerce (the Department) published in the Federal Register the initiation of administrative review of the antidumping duty order on hand trucks and certain parts thereof from the People's Republic of China, covering the period of December 1, 2008, to November 30, 2009. See Initiation of Antidumping and Countervailing Duty Administrative Reviews and Request for Revocation in Part, and Deferral of Initiation of Administrative Review, 75 FR 4770 (January 29, 2010). The current deadline for the preliminary results of this review is September 9, 2010.

Extension of Time Limits for Preliminary Results of Review

Section 751(a)(3)(A) of the Tariff Act of 1930, as amended (the Act), requires that the Department complete the preliminary results of an administrative review within 245 days after the last day of the anniversary month of an order for which a review is requested. However, if it is not practicable to complete the review within this time period, section 751(a)(3)(A) of the Act allows the Department to extend the time limit for the preliminary results to a maximum of 365 days after the last day of the anniversary month of an order for which a review is requested.

The Department finds that it is not practicable to complete the preliminary results of this review within the original time frame because comments from interested parties have necessitated the solicitation and subsequent analysis of additional information from the respondent, New-Tec Integration (Xiamen) Co., Ltd. This additional information covers a wide range of issues and is extensive. The Department requires additional time to gather and analyze the additional information. Thus, the Department finds it is not practicable to complete this review within the original time limit (i.e., September 9, 2010). Accordingly, the Department is extending the time limit for completion of the preliminary results of this administrative review by 120 days (i.e., until January 7, 2011), in accordance with section 751(a)(3)(A) of the Act and 19 CFR 351.213(h)(2). We intend to issue the final results no later than 120 days after publication of the preliminary results notice.

This extension is issued and published in accordance with sections 751(a)(3)(A) and 777(i) of the Act.

Dated: August 17, 2010.
Edward C. Yang,
Acting Deputy Assistant Secretary for Antidumping and Countervailing Duty Operations.

[FR Doc. 2010-21043 Filed 8-23-10; 8:45 am]

BILLING CODE 3510-DS-S